ENVIRONMENTAL PROTECTION AGENCY

[EPA-HQ-OPP-2009-1017; FRL-9403-2]

Product Cancellation Order for Certain Pesticide Registrations

AGENCY: Environmental Protection Agency (EPA).

ACTION: Notice.

SUMMARY: This notice announces EPA's order for the cancellations, voluntarily requested by the registrants and accepted by the Agency, of the products listed in Table 1a and 1b of Unit II., pursuant to the Federal Insecticide, Fungicide, and Rodenticide Act (FIFRA). This cancellation order follows a August 21, 2013 Federal Register Notice of Receipt of Requests from the registrants listed in Table 2 of Unit II. to voluntarily cancel these product registrations. In the August 21, 2013 notice, EPA indicated that it would issue an order implementing the cancellations, unless the Agency received substantive comments within the 30 day comment period that would merit its further review of these requests, or unless the registrants withdrew their requests. The Agency did not receive any comments on the notice. Further, the registrants did not withdraw their requests. Accordingly, EPA hereby issues in this notice a cancellation order granting the requested cancellations. Any distribution, sale, or use of the products subject to this cancellation order is permitted only in accordance with the terms of this order, including any existing stocks provisions.

DATES: The cancellations are effective October 30, 2013.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2009-1017, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellation, as requested by registrants, of products registered under FIFRA section 3. In addition, this notice also announces the cancellation, as requested by Syngenta Crop Protection, LLC (Syngenta), of the last two remaining tralkoxydim products registered for use in the United States. EPA is not proposing any tolerance actions for tralkoxydim at this time. However, if any tolerance actions become necessary in the future, there will be an announcement published in the Federal Register and a public comment period on the proposed action. These registrations are listed in sequence by registration number in Tables 1a and 1b of this unit.

Table 1a—Product Cancellations
EPA Registration No. | Product name | Chemical name
000100-01125 | Impasse Termite System | Lambda-cyhalothrin.
000100-01156 | Impasse Premix GR | Lambda-cyhalothrin.
000100-01166 | Impasse Termite Blocker | Lambda-cyhalothrin.
000264-01048 | EXP3 Seed Applied Nematicide/Insecticide | Thiodicarb.
000432-01237 | BES Garden Dust 10% | Carbaryl.
000432-01238 | AES Carbaryl Insecticide Spray-RTU | Carbaryl.
000432-01239 | BES Garden Dust 5% | Carbaryl.
000432-01244 | AES Sevin Granules Ant, Flea, Tick & Grub Killer (1% Sevin) | Carbaryl.
001022-00563 | Chapco KD | Potassium dimethyldithiocarbamate.
001022-00574 | DCD-SDDC | Sodium dimethyldithiocarbamate.
001022-00577 | Buffalo System II | Sodium dimethyldithiocarbamate.
009688-00296 | Chemsico 0.51% Granular Propiconazole | Propiconazole.
010807-00448 | Country Vet Flea & Tick Fogger with Growth Inhibitor | MGK 264, Pyrethrins (NO INERT USE), Pyriproxyfen, Permethrin.
010807-00454 | Country Vet Fly Insecticide & Repellent for Horses | Stabilene, Pyrethrins (NO INERT USE), Piperonyl butoxide.
010807-00466 | CB Country Vet 80 | Piperonyl butoxide, Pyrethrins (NO INERT USE).
010807-00469 | Country Vet Fogger with Esfenvalerate | Pyrethrins (NO INERT USE), Piperonyl butoxide, Esfenvalerate, MGK 264.
011556-00121 | Advantage TM 110 | Imidacloprid.
040391-00010 | Entech Fog-10 | MGK 264, Piperonyl butoxide, Pyrethrins (NO INERT USE).
060061-00107 | Woodtreat XL Sapstain Control Chemical | 1-Decanaminium, N-decyl-N,N-dimethyl-, chloride and Propiconazole.
060061-00114 | Woodtreat P Sapstain Control Chemical | Propiconazole.
060061-00121 | Woodtreat XP Sapstain Control Product | Propiconazole and Carbamic acid, butyl-, 3-iodo-2-propynyl ester.
060061-00124 | Valvtect Marine Premium Diesel With Bioguard Additive | Morpholine, 4,4′-(2-ethyl-2-nitro-1,3-propanediyl)bis-, 4-(2-Nitrobutyl)morpholine.
073049-00450 | Dinotefuran Fly Bait | Dinotefuron.
083558-00005 | Paraquat Dichloride Technical | Paraquat dichloride.
MD-010001 | Sevin Brand XLR Plus Carbaryl Insecticide | Carbaryl.
PA-010002 | Sevin XLR Plus Carbaryl Insecticide | Carbaryl.
WI-110001 | Starcane Ultra Herbicide | Fluroxypyr 1-methylheptyl ester.

Table 1b—Tralkoxydim Product Cancellations
Registration No. | Product name | Chemical name
000100-01105 | Achieve 40DG Herbicide | Tralkoxydim.
000100-01106 | Achieve 80DG Herbicide | Tralkoxydim.

Table 2 of this unit includes the names and addresses of record for all registrants of the products in Table 1a and 1b of this unit, in sequence by EPA company number. This number corresponds to the first part of the EPA registration numbers of the products listed in Table 1a and 1b of this unit.

Table 2—Registrants of Cancelled Products
EPA Company No. | Company name and address
100 | Syngenta Crop Protection, LLC, 410 Swing Rd., P.O. Box 18300, Greensboro, NC 27419-8300.
264 MD010001, PA010002 | Bayer Cropscience LP, 2 T.W. Alexander Dr., P.O. Box 12014, Research Triangle Park, NC 27709.
432 | Bayer Environmental Science, A Division of Bayer Cropscience LP, 2 T.W. Alexander Dr., P.O. Box 12014, Research Triangle Park, NC 27709.
1022 | IBC Manufacturing Co., 416 E. Brooks Rd., Memphis, TN 38109.
9688 | Chemsico, A Division of United Industries Corp., P.O. Box 142642, St. Louis, MO 63114-0642.
10807 | Amrep, Inc, 990 Industrial Park Dr., Marietta, GA 30062.
11556 | Bayer Healthcare, LLC, P.O. Box 390, Shawnee Mission, KS 66201-0390.
40391 | Entech Systems Corporation, Agent: Regguide, 509 Tower Valley Dr., Hillsboro, MO 63050.
60061 | Kop-Coat, Inc., 3020 William Pitt Way, Pittsburgh, PA 15238.
73049 | Valent Biosciences Corporation, Environmental Science Division, 870 Technology Way, Libertyville, IL 60048-6316.
83558 | Celsius Property B.V., Amsterdam (NL), Agent: Makhteshim Agan of North America, Inc., 3120 Highwoods Blvd., Suite 100, Raleigh, NC 27604.
WI-110001 | Dow Agrosciences LLC, 9330 Zionsville Rd., Suite 308/2E, Indianapolis, IN 46268-1054.

III. Summary of Public Comments Received and Agency Response to Comments

During the public comment period provided, EPA received no comments in response to the August 21, 2013 Federal Register notice (78 FR 51721) (FRL-9396-5) announcing the Agency's receipt of the requests for voluntary cancellations of products listed in Table 1a and 1b of Unit II.

IV. Cancellation Order

Pursuant to FIFRA section 6(f), EPA hereby approves the requested cancellations of the registrations identified in Table 1a and 1b of Unit II. Accordingly, the Agency hereby orders that the product registrations identified in Table 1a and 1b of Unit II. are canceled. The effective date of the cancellations that are the subject of this notice is October 30, 2013. Any distribution, sale, or use of existing stocks of the products identified in Table 1a and 1b of Unit II. in a manner inconsistent with any of the provisions for disposition of existing stocks set forth in Unit VI. will be a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of August 21, 2013. The comment period closed on September 20, 2013.

VI. Provisions for Disposition of Existing Stocks

Existing stocks are those stocks of registered pesticide products which are currently in the United States and which were packaged, labeled, and released for shipment prior to the effective date of the cancellation action. The existing stocks provisions for the products subject to this order are as follows.

A. For All Products Identified in Table 1a in Unit II

The registrants may continue to sell and distribute existing stocks of products listed in Table 1a of Unit II. until October 30, 2014, which is 1 year after the publication of the Cancellation Order in the Federal Register. Thereafter, the registrants are prohibited from selling or distributing products listed in Table 1a, except for export in accordance with FIFRA section 17, or proper disposal. Persons other than the registrants may sell, distribute, or use existing stocks of products listed in Table 1a of Unit II. until existing stocks are exhausted, provided that such sale, distribution, or use is consistent with the terms of the previously approved labeling on, or that accompanied, the canceled products.

B. For All Tralkoxydim Products Identified in Table 1b in Unit II

The registrants may continue to sell and distribute existing stocks of products listed in Table 1b of Unit II. until November 1, 2014. Thereafter, the registrants are prohibited from selling or distributing products listed in Table 1b, except for export in accordance with FIFRA section 17, or proper disposal. Persons other than the registrants may sell, distribute, or use existing stocks of products listed in Table 1b of Unit II. until existing stocks are exhausted, provided that such sale, distribution, or use is consistent with the terms of the previously approved labeling on, or that accompanied, the canceled products.

List of Subjects

Environmental protection, Pesticides and pests.

Dated: October 21, 2013.
Richard P. Keigwin, Jr.,
Director, Pesticide Re-Evaluation Division, Office of Pesticide Programs.

[FR Doc. 2013-25593 Filed 10-29-13; 8:45 am]

BILLING CODE 6560-50-P